DEPARTMENT OF DEFENSE

Office of the Secretary

Armed Forces Retirement Home Advisory Council; Notice of Federal Advisory Committee Meeting

AGENCY: Department of Defense (DoD).

ACTION: Notice of Federal advisory committee meeting.

SUMMARY: The DoD is publishing this notice to announce that the following Federal Advisory Committee meeting of the Armed Forces Retirement Home Advisory Council (AFRHAC) will take place.

DATES: AFRHAC will hold a meeting open to the public on Thursday, October 17, 2024, from 10:30 a.m. to 12:30 p.m. (ET).

ADDRESSES: The meeting may be accessed by videoconference. Information for accessing the videoconference will be provided after registering. (Pre-meeting registration is required. See guidance in SUPPLEMENTARY INFORMATION, “Meeting Accessibility”.)

FOR FURTHER INFORMATION CONTACT: Mrs. Lakesia Campbell, Designated Federal Officer (DFO), (202) 541-0667 (voice), lakesia.campbell@afrh.gov (email). Website: www.afrh.gov/aboutus/advisory-council. The most up-to-date changes to the meeting agenda can be found on the website.

SUPPLEMENTARY INFORMATION: This meeting is being held under the provisions of chapter 10 of title 5 United States Code (U.S.C.) (commonly known as the “Federal Advisory Committee Act” or “FACA”), 5 U.S.C. 552b (commonly known as the “Government in the Sunshine Act”), and 41 Code of Federal Regulations (CFR) 102-3.140 and 102-3.150.

Availability of Materials for the Meeting: Additional information, including the agenda or any updates to the agenda, is available on the AFRHAC website (https://www.afrh.gov/aboutus/advisory-council). Materials presented in the meeting may also be obtained on the AFRHAC website.

Purpose of the Meeting: The purpose of the meeting is for the AFRHAC to receive briefings and have discussions on topics related to the administration of the Armed Forces Retirement Home.

Agenda: Thursday, October 17, 2024, from 10:30 a.m. to 12:30 p.m. (ET)—Meeting open (roll call and opening remarks by Chair, Mr. Michael Heimall; Brief: AFRH budget and strategic plan; Brief: healthcare organization and accreditation; Brief: renovation and capital maintenance; Brief: electronic health record modernization.

Meeting Accessibility: Pursuant to Federal statutes and regulations (5 U.S.C. chapter 10, 5 U.S.C. 552b, and 41 CFR 102-3.140 through 102-3.165), this meeting is open to the public from 10:30 a.m. to 12:30 p.m. (EST) on October 17, 2024. The meeting will be held by videoconference. All members of the public who wish to attend must register by contacting Mrs. Lakesia Campbell at (202) 541-0667 or lakesia.campbell@afrh.gov no later than Friday, October 11, 2024 (by 5:00 p.m. ET). Once registered, the web address and/or audio number will be provided.

Special Accommodations: Individuals requiring special accommodations to access the public meeting should contact Mrs. Lakesia Campbell at (202) 541-0667 or lakesia.campbell@afrh.gov no later than Friday, October 11, 2024 (by 5:00 p.m. ET) so that appropriate arrangements can be made.

Written Comments and Statements: Pursuant to 41 CFR 102-3.105(j) and 102-3.140, and 5 U.S.C. 1009(a)(3), the public or interested organizations may submit written comments or statements to the AFRHAC in response to the stated agenda of the meeting or regarding the AFRHAC's mission in general. Individuals submitting a statement must submit their statement in writing no later than 5:00 p.m. ET, Friday, October 11, 2024 to Mrs. Lakesia Campbell via electronic mail (the preferred mode of submission) at the address listed in the FOR FURTHER INFORMATION CONTACT section. Each page of the comment or statement must include the author's name, title or affiliation, address, and daytime phone number. If a statement pertaining to a specific topic being discussed at the planned meeting is not received by Friday, October 11, 2024, prior to the meeting, then it may not be provided to, or considered by, the Council during the October 17, 2024, meeting. The DFO will review all timely submissions with the AFRHAC Chair and ensure such submissions are provided to the members of the AFRHAC before the meeting. Comments not received in time for provision prior to the meeting shall be provided to the AFRHAC Chair. Please note that all submitted comments and statements will be treated as public documents and will be made available for public inspection, including, but not limited to, being posted on the AFRHAC's website (https://www.afrh.gov/aboutus/advisory-council).

Dated: September 26, 2024.
Aaron T. Siegel,
Alternate OSD Federal Register Liaison Officer, Department of Defense.

[FR Doc. 2024-22861 Filed 10-2-24; 8:45 am]

BILLING CODE 6001-FR-P